ENVIRONMENTAL PROTECTION AGENCY

[EPA-HQ-OW-2023-0107; EPA-HQ-OGC-2024-0601; EPA-HQ-OAR-2023-0129; EPA-HQ-OPPT-2014-0838; EPA-HQ-OPP-2024-0629; EPA-R01-OW-2024-0492; FRL-12587-01-OA]

Six Actions Published by the Environmental Protection Agency With Comment Periods That Closed January 27, 2025, and January 29, 2025; Reopening of Comment Periods

AGENCY: Environmental Protection Agency (EPA).

ACTION: Notices; reopening of comment periods.

SUMMARY: This document reopens the comment period for 30 days for six notices published by the Environmental Protection Agency in the Federal Register between October 31, 2024, and January 14, 2025. This document reopens the comment period for those six notices with comment periods that closed January 27, 2025, and January 29, 2025.

DATES: Comments must be received on or before March 3, 2025. Comments should be submitted to the original docket for the notice specified in the table below.

ADDRESSES: You may send comments, identified by appropriate Docket ID number listed in the table below by any of the following methods:

• Federal eRulemaking Portal: https://www.regulations.gov/ (our preferred method). Follow the online instructions for submitting comments.

Instructions: All submissions received must include the Docket ID No. for the original rulemaking as listed in the table below. Comments received may be posted without change to https://www.regulations.gov, including personal information provided.

FOR FURTHER INFORMATION CONTACT: William Nickerson, Director, Office of Regulatory Policy and Management, Office of Policy, Mail Code 1804, U.S. Environmental Protection Agency, 1200 Pennsylvania Ave. NW, Washington, DC 20460; (202) 566-0326; nickerson.william@epa.gov.

SUPPLEMENTARY INFORMATION: This document reopens the comment period for six actions published between October 31, 2024, and January 14, 2025. The comment period for these six actions ends March 3, 2025.

Federal Register citation | Title | Publication date | Original comment period end date | Docket ID
90 FR 3207 | Clothianidin; Receipt of Application for Emergency Exemption; Solicitation of Public Comment | 1/14/2025 | 1/29/2025 | EPA-HQ-OPP-2024-0629.
89 FR 105567 | Comparison of Aquatic Life Protective Values Developed for Pesticides Under the FIFRA and the CWA | 12/27/2024 | 1/27/2025 | EPA-HQ-OW-2023-0107.
89 FR 105045 | Proposed Consent Decree, Clean Air Act Citizen Suit | 12/26/2024 | 1/27/2025 | EPA-HQ-OGC-2024-0601.
89 FR 105043 | Agency Information Collection Activities; Submission to the Office of Management and Budget for Review and Approval; Comment Request; Consolidated Air Rule for the Synthetic Organic Chemical Manufacturing Industry (Renewal) | 12/26/2024 | 1/27/2025 | EPA-HQ-OAR-2023-0129.
89 FR 93574 | Agency Information Collection Activities; Proposed Renewal of an Existing ICR Collection and Request for Comment; Assessment of Environmental Performance Standards and Ecolabels for Federal Procurement | 11/27/2024 | 1/27/2025 | EPA-HQ-OPPT-2014-0838.
89 FR 86802 | Notice of Preliminary Designation of Certain Stormwater Discharges in the Commonwealth of Massachusetts and Notice of Availability of Draft Permit Under the National Pollutant Discharge Elimination System of the Clean Water Act | 10/31/2024 | 1/29/2025 | EPA-R01-OW-2024-0492.

EPA may identify additional actions for reopening or extending comment periods in subsequent notices.

This document reopens the public comment period for the notice “Clothianidin; Receipt of Application for Emergency Exemption” established in the Federal Register document of January 14, 2025 (90 FR 3207) (FRL-12544-01-OCSPP), for 30 days. In that document, EPA provided notice of a specific exemption request from the Florida Department of Agriculture and Consumer Services (FDACS) to use the pesticide clothianidin (CAS No. 210-880-92-5) to treat up to 75,000 acres of immature (3-5 years old) citrus trees to control the transmission of Huanglongbing (HLB) disease vectored by the Asian Citrus Psyllid. The applicant proposed a use that has been requested in 5 or more previous years and for which a complete application for registration or tolerance petition has not been submitted to the Agency. Therefore, in that Federal Register document of January 14, 2025, EPA solicited public comment before making the decision whether or not to grant the exemption.

This document reopens the public comment period established for the notice “Comparison of Aquatic Life Protective Values Developed for Pesticides Under the Federal Insecticide, Fungicide and Rodenticide Act (FIFRA) and the Clean Water Act (CWA)” in the Federal Register document of December 27, 2024 (89 FR 105567) (FRL 10680-01-OW), for 30 days. In that document, EPA announced the availability of draft analyses comparing aquatic life benchmarks developed by the EPA's Office of Pesticides Programs (OPP) in support of registration decisions for pesticides under the Federal Insecticide, Fungicide and Rodenticide Act (FIFRA) to existing national recommended aquatic life Ambient Water Quality Criteria and criteria-related values developed under the Clean Water Act (CWA) for the protection of aquatic life from pesticides.

This document reopens the public comment period for the notice “Proposed Consent Decree, Clean Air Act Citizen Suit” established in the Federal Register document of December 26, 2024 (89 FR 105045) (FRL-12515-01-OGC), for 30 days. In that document, EPA provided notice of a proposed consent decree in Center for Community Action and Environmental Justice v. U.S. EPA, et al., No. 3:24-cv-05042-EMC. On August 12, 2024, Plaintiff Center for Community Action and Environmental Justice filed a complaint in the United States District Court for the Northern District of California San Francisco Division, alleging that the Environmental Protection Agency (EPA) failed to perform certain non-discretionary duties in accordance with the Act to take final action on a state implementation plan (SIP) revision submitted by the State of California. In the Federal Register document of December 26, 2024, EPA provided notice of the proposed consent decree, which would resolve all claims in the case by establishing a deadline for EPA to take final action as specified in the decree.

This document reopens the public comment period for the notice “Agency Information Collection Activities; Submission to the Office of Management and Budget for Review and Approval; Comment Request; Consolidated Air Rule for the Synthetic Organic Chemical Manufacturing Industry (Renewal)” established in the Federal Register document of December 26, 2024 (89 FR 105043) (FRL-12524-OMS-01), for 30 days. In that document, EPA provided notice of an information collection request (ICR), Consolidated Air Rule for the Synthetic Organic Chemical Manufacturing Industry (EPA ICR Number 1854.14, OMB Control Number 2060-0443) submitted to the Office of Management and Budget (OMB) for review and approval in accordance with the Paperwork Reduction Act. In that Federal Register document of December 26, 2024, EPA proposed an extension of the ICR, which is currently approved through December 31, 2024.

This document reopens the public comment period for the notice “Agency Information Collection Activities; Proposed Renewal of an Existing ICR Collection and Request for Comment; Assessment of Environmental Performance Standards and Ecolabels for Federal Procurement” established in the Federal Register document of November 27, 2024 (89 FR 93574) (FRL-12379-01-OCSPP), for 30 days. In that document, EPA announced the availability of and solicited public comment on the following Information Collection Request (ICR) that EPA is planning to submit to the Office of Management and Budget (OMB): “Assessment of Environmental Performance Standards and Ecolabels for Federal Procurement,” identified by EPA ICR No. 2516.05 and OMB Control No. 2070-0199. The ICR represents a renewal of an existing ICR that is currently approved through September 30, 2025. Before submitting the ICR to OMB for review and approval under the PRA, EPA is soliciting comments on specific aspects of the information collection that is summarized in the Federal Register document of November 27, 2024.

This document reopens the public comment period for “Notice of Preliminary Designation of Certain Stormwater Discharges in the Commonwealth of Massachusetts and Notice of Availability of Draft Permit Under the National Pollutant Discharge Elimination System of the Clean Water Act” established in the Federal Register document of October 31, 2024 (89 FR 86802) (FRL-12374-01-R1), for 30 days. In that document, EPA provided notice of two actions. The first action is the Preliminary Designation of certain stormwater discharges from commercial, industrial, and institutional properties with one acre or more of impervious surface in the Charles, Neponset, and Mystic River watersheds in Massachusetts for regulation under the Clean Water Act's National Pollutant Discharge Elimination System (NPDES) permitting program. Second, the EPA provided notice of availability of a draft NPDES General Permit for Private Commercial Industrial, and Institutional Stormwater Discharges in Charles, Mystic, and Neponset River Watersheds in Massachusetts.

EPA is extending these comment periods to allow interested parties additional time to thoroughly review and analyze how these notices may impact parties potentially subject to them. Comments previously submitted need not be resubmitted as they are already incorporated into the public record and will be considered in the final action as appropriate.

Where appropriate, the Agency may consider extending the comment period beyond 30 days for the above referenced actions.

To submit comments, or access the docket, please follow the detailed instructions provided under ADDRESSES. If you have questions, consult the technical person listed under FOR FURTHER INFORMATION CONTACT.

James Payne,
Acting Administrator.

[FR Doc. 2025-02106 Filed 1-30-25; 8:45 am]

BILLING CODE 6560-50-P